DEPARTMENT OF AGRICULTURE

Animal and Plant Health Inspection Service

[Docket No. 04-039-1]

Mile-a-Minute Weed; Availability of an Environmental Assessment

AGENCY: Animal and Plant Health Inspection Service, USDA.

ACTION: Notice of availability and request for comments.

SUMMARY: We are advising the public that the Animal and Plant Health Inspection Service has prepared an environmental assessment relative to the control of mile-a-minute weed (Polygonum perfoliatum). The environmental assessment considers the effects of, and alternatives to, the release of a nonindigenous weevil, Rhinoncomimus latipes, into the environment to reduce the severity and extent of mile-a-minute weed infestations in the continental United States. We are making the environmental assessment available to the public for review and comment.

DATES: We will consider all comments that we receive on or before July 1, 2004.

ADDRESSES: You may submit comments by any of the following methods:

• Postal Mail/Commercial Delivery: Please send four copies of your comment (an original and three copies) to Docket No. 04-039-1, Regulatory Analysis and Development, PPD, APHIS, Station 3C71, 4700 River Road Unit 118, Riverdale, MD 20737-1238. Please state that your comment refers to Docket No. 04-039-1.

• E-mail: Address your comment to regulations@aphis.usda.gov. Your comment must be contained in the body of your message; do not send attached files. Please include your name and address in your message and “Docket No. 04-039-1” on the subject line.

• Agency Web site: Go to http://www.aphis.usda.gov/ppd/rad/cominst.html for a form you can use to submit an e-mail comment through the APHIS Web site.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Robert Flanders, Branch Chief, Biological and Technical Services, Pest Permit Evaluations, Plant Protection and Quarantine, APHIS, 4700 River Road Unit 133, Riverdale, MD 20737-1236; (301) 734-5930.

SUPPLEMENTARY INFORMATION:

Background

Mile-a-minute weed (Polygonum perfoliatum L. [Polygonaceae]) is an annual vine that is indigenous to Asia. Since it was accidentally introduced into Pennsylvania via imported nursery stock in the 1930s, it has become established throughout the northeastern United States. The weed grows rapidly, with stems that can extend up to 6 meters. Its stems, petioles, and leaf veins are covered with downward-curving barbs that aid the plant in climbing and supporting itself on other plants.

Large, dense patches of mile-a-minute weed develop during the summer. As the vines climb over and cover other plants, they block available sunlight, which can reduce the population of native plant species in affected areas. Mile-a-minute weed can also interfere with Christmas tree farms, pine plantations, and reforestation projects by smothering tree seedlings. Nursery and horticultural crops that are not regularly tilled can also be affected by mile-a-minute weed. The Animal and Plant Health Inspection Service (APHIS) and several States list mile-a-minute weed as a noxious weed.

A pest risk assessment that APHIS conducted in 1994 rated the risk potential of mile-a-minute weed as “high,” based on its high ratings for probability of spread and environmental impact potential and its medium rating for economic consequences of establishment. That risk assessment also noted that eradication of mile-a-minute weed is no longer feasible, because it is distributed in at least seven States and its seeds are spread by birds and water. The risk assessment recommended that efforts to control mile-a-minute weed utilize classical biocontrol, if feasible.

Pursuant to this recommendation, researchers have identified a nonindigenous weevil, Rhinoncomimus latipes (Coleoptera: Curculionidae), as a biological control agent capable of reducing the severity and extent of mile-a-minute weed infestation.

R. latipes is a small (approximately 2 millimeters long) black weevil, first collected in China, that lays its eggs on leaves and stems of mile-a-minute weed. Newly hatched R. latipes larvae bore into the weed's stem and spend their entire larval period feeding internally in the stem. Feeding in the stem of mile-a-minute weed by a single R. latipes larva kills the stem terminal, preventing development of seeds on that terminal.

After about 3 weeks, the larvae leave the stem, drop to the soil, and pupate. Adults emerge about 1 week later. Adult R. latipes feed on mile-a-minute weed foliage, ingesting about 0.1 square centimeter of foliage per weevil per day. Adults also lay about three eggs a day. Adults can survive for up to a year in the laboratory.

Simulated damage studies suggest that larval feeding by this weevil has the potential to kill small mile-a-minute weed plants and stunt and reduce seed production by larger plants. Observations in China indicate that R. latipes is host-specific and has caused considerable damage to mile-a-minute plants in its native range, especially through larval feeding.

Therefore, APHIS is considering issuing a permit for the release of R. latipes into the continental United States in order to reduce the severity and extent of mile-a-minute weed infestation. APHIS” review and analysis of the proposed action and its alternatives are documented in detail in an environmental assessment (EA) entitled, “Field Release of Rhinoncomimus latipes (Coleoptera: Curculionidae), a Weevil for Biological Control of Mile-A-Minute Weed (Polygonum perfoliatum), in the Continental United States' (April 2004). We are making the EA available to the public for review and comment. We will consider all comments that we receive on or before the date listed under the heading DATES at the beginning of this notice.

The EA may be0 viewed on the Internet at http://www.aphis.usda.gov/ppq/. In the middle of that page, click on “Document/Forms Retrieval System.” At the next screen, click on the triangle beside “Permits—Environmental Assessments.” A list of documents will appear; the EA for mile-a-minute weed is document number 0037. You may request paper copies of the EA by calling or writing to the person listed under FOR FURTHER INFORMATION CONTACT. Please refer to the title of the EA when requesting copies. The EA is also available for review in our reading room (information on the location and hours of the reading room is listed under the heading ADDRESSES at the beginning of this notice).

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS’ NEPA Implementing Procedures (7 CFR part 372).

Done in Washington, DC, this 25th day of May 2004.
W. Ron DeHaven,
Administrator, Animal and Plant Health Inspection Service.

[FR Doc. 04-12267 Filed 5-28-04; 8:45 am]

BILLING CODE 3410-34-P